DEPARTMENT OF THE TREASURY

Internal Revenue Service

Open Meeting of the Ad Hoc Issue Committee of the Taxpayer Advocacy Panel

AGENCY: Internal Revenue Service (IRS), Treasury.

ACTION: Notice.

SUMMARY: An open meeting of the Ad Hoc Issue Committee of the Taxpayer Advocacy Panel will be conducted in Edwardsville, Illinois.

DATES: The meeting will be held Friday, June 6, 2003 and Saturday, June 7, 2003.

FOR FURTHER INFORMATION CONTACT: Anne Gruber at 1-888-912-1227, or 206-220-6095.

SUPPLEMENTARY INFORMATION: Notice is hereby given pursuant to Section 10(a)(2) of the Federal Advisory Committee Act, 5 U.S.C. App. (1988) that an open meeting of the Ad Hoc Issue Committee of the Taxpayer Advocacy Panel will be held Friday, June 6, 2003 from 8:30 a.m. c.d.t. to 4:30 p.m. c.d.t. and Saturday, June 7, 2003 from 8:30 a.m. c.d.t. to 12:30 p.m. c.d.t. Both meetings will be held at B. Barnard Birger Hall on the campus of Southern Illinois University Edwardsville. The public is invited to make oral comments on Friday, June 6 from 1 p.m. c.d.t. to 1:30 p.m. c.d.t. Individual comments will be limited to 5 minutes. If you would like to have the TAP consider a written statement, please call 1-888-912-1227 or 206-220-6095, or write Anne Gruber, TAP Office, 915 2nd Ave, Seattle, WA 98174. Due to limited time and space, notification of intent to participate in the meeting must be made in advance with Anne Gruber. Ms. Gruber can be reached at 1-888-912-1227 or 206-220-6095.

The agenda will include the following: Various IRS issues.

Note: Last minute changes to the agenda are possible and could prevent effective advance notice.

Dated: May 6, 2003.
Tersheia D. Carter,
Acting Director, Taxpayer Advocacy Panel.

[FR Doc. 03-11767 Filed 5-9-03; 8:45 am]

BILLING CODE 4830-01-P